DEPARTMENT OF HOMELAND SECURITY

U.S. Customs and Border Protection

[1651-0001]

Agency Information Collection Activities: Cargo Manifest/Declaration, Stow Plan, Container Status Messages and Importer Security Filing

AGENCY: U.S. Customs and Border Protection (CBP), Department of Homeland Security.

ACTION: 60-Day notice and request for comments; revision of an existing collection of information.

SUMMARY: The Department of Homeland Security, U.S. Customs and Border Protection will be submitting the following information collection request to the Office of Management and Budget (OMB) for review and approval in accordance with the Paperwork Reduction Act of 1995. The information collection is published in the Federal Register to obtain comments from the public and affected agencies. Comments are encouraged and will be accepted (no later than October 2, 2017) to be assured of consideration.

ADDRESSES: Written comments and/or suggestions regarding the item(s) contained in this notice must include the OMB Control Number 1651-0001 in the subject line and the agency name. To avoid duplicate submissions, please use only one of the following methods to submit comments:

(1) Email. Submit comments to: CBP_PRA@cbp.dhs.gov.

(2) Mail. Submit written comments to CBP Paperwork Reduction Act Officer, U.S. Customs and Border Protection, Office of Trade, Regulations and Rulings, Economic Impact Analysis Branch, 90 K Street NE., 10th Floor, Washington, DC 20229-1177.

FOR FURTHER INFORMATION CONTACT: Requests for additional PRA information should be directed to CBP Paperwork Reduction Act Officer, U.S. Customs and Border Protection, Office of Trade, Regulations and Rulings, Economic Impact Analysis Branch, 90 K Street NE., 10th Floor, Washington, DC 20229-1177, or via email CBP_PRA@cbp.dhs.gov. Please note that the contact information provided here is solely for questions regarding this notice. Individuals seeking information about other CBP programs should contact the CBP National Customer Service Center at 877-227-5511, (TTY) 1-800-877-8339, or CBP Web site at https://www.cbp.gov/.

SUPPLEMENTARY INFORMATION: CBP invites the general public and other Federal agencies to comment on the proposed and/or continuing information collections pursuant to the Paperwork Reduction Act of 1995 (44 U.S.C. 3501 et seq.). Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Cargo Manifest/Declaration, Stow Plan, Container Status Messages and Importer Security Filing.

OMB Number: 1651-0001.

Form Numbers: CBP Forms 1302, 1302A, 7509, 7533.

Abstract: This OMB approval includes the following existing information collections: CBP Form 1302 (or electronic equivalent); CBP Form 1302A (or electronic equivalent); CBP Form 7509 (or electronic equivalent); CBP Form 7533 (or electronic equivalent); Manifest Confidentiality; Vessel Stow Plan (Import); Container Status Messages; and Importer Security Filing, Electronic Ocean Export Manifest; Electronic Air Export Manifest; Electronic Rail Export Manifest; and Vessel Stow Plan (Export). CBP is proposing to add a new information collection for the Air Cargo Advance Screening (ACAS) Pilot Program.

CBP Form 1302: The master or commander of a vessel arriving in the United States from abroad with cargo on board must file CBP Form 1302, Inward Cargo Declaration, or submit the information on this form using a CBP-approved electronic equivalent. CBP Form 1302 is part of the manifest requirements for vessels entering the United States and was agreed upon by treaty at the United Nations Inter-government Maritime Consultative Organization (IMCO). This form and/or electronic equivalent, is provided for by 19 CFR 4.5, 4.7, 4.7a, 4.8, 4.33, 4.34, 4.38, 4.84, 4.85, 4.86, 4.91, 4.93 and 4.99 and is accessible at: http://www.cbp.gov/sites/default/files/documents/CBP%20Form%201302_0.pdf.

CBP Form 1302A: The master or commander of a vessel departing from the United States must file CBP Form 1302A, Cargo Declaration Outward With Commercial Forms, or CBP-approved electronic equivalent, with copies of bills of lading or equivalent commercial documents relating to all cargo encompassed by the manifest. This form and/or electronic equivalent, is provided for by 19 CFR 4.62, 4.63, 4.75, 4.82, and 4.87-4.89 and is accessible at: http://www.cbp.gov/sites/default/files/documents/CBP%20Form%201302_0.pdf.

Electronic Ocean Export Manifest: CBP began a pilot in 2015 to electronically collect ocean export manifest information. This information is transmitted to CBP in advance via the Automated Export System (AES) within the Automated Commercial Environment (ACE).

CBP Form 7509: The aircraft commander or agent must file Form 7509, Air Cargo Manifest, with CBP at the departure airport, or respondents may submit the information on this form using a CBP-approved electronic equivalent. CBP Form 7509 contains information about the cargo onboard the aircraft. This form, and/or electronic equivalent, is provided for by 19 CFR 122.35, 122.48, 122.48a, 122.52, 122.54, 122.73, 122.113, and 122.118, and is accessible at: http://www.cbp.gov/sites/default/files/documents/CBP%20Form%207509_0.pdf.

Air Cargo Advanced Screening: CBP began a pilot in 2012 announced via a notice published in Federal Register on October 24, 2012 (77 FR 65006). The ACAS pilot is a voluntary test in which participants agree to submit a subset of the required 19 CFR 122.48a data elements at the earliest point practicable prior to loading of the cargo onto the aircraft destined to or transiting through the United States. The ACAS pilot data is transmitted to CBP via a CBP-approved electronic data interchange system. Currently, the ACAS data consists of:

(1) Air waybill number

(2) Total quantity based on the smallest external packing unit

(3) Total weight

(4) Cargo description

(5) Shipper name and address

(6) Consignee name and address

Electronic Air Export Manifest: CBP began a pilot in 2015 to electronically collect air export manifest information. This information is transmitted to CBP in advance via ACE's AES.

CBP Form 7533: The master or person in charge of a conveyance files CBP Form 7533, Inward Cargo Manifest for Vessel Under Five Tons, Ferry, Train, Car, Vehicle, etc, which is required for a vehicle or a vessel of less than 5 net tons arriving in the United States from Canada or Mexico, otherwise than by sea, with baggage or merchandise. Respondents may also submit the information on this form using a CBP-approved electronic equivalent. CBP Form 7533, and/or electronic equivalent, is provided for by 19 CFR 123.4, 123.7, 123.61, 123.91, and 123.92, and is accessible at: http://www.cbp.gov/sites/default/files/documents/CBP%20Form%207533_0.pdf.

Electronic Rail Export Manifest: CBP began a pilot in 2015 to electronically collect the rail export manifest information. This information is transmitted to CBP in advance via ACE's AES.

Manifest Confidentiality: An importer or consignee (inward) or a shipper (outward) may request confidential treatment of its name and address contained in manifests by following the procedure set forth in 19 CFR 103.31.

Vessel Stow Plan (Import): For all vessels transporting goods to the United States, except for any vessel exclusively carrying bulk cargo, the incoming carrier is required to electronically submit a vessel stow plan no later than 48 hours after the vessel departs from the last foreign port that includes information about the vessel and cargo. For voyages less than 48 hours in duration, CBP must receive the vessel stow plan prior to arrival at the first port in the U.S. The vessel stow plan is provided for by 19 CFR 4.7c.

Vessel Stow Plan (Export): CBP began a pilot in 2015 to electronically collect a vessel stow plan for vessels transporting goods from the United States, except for any vessels exclusively carrying bulk cargo. The exporting carrier is required to electronically submit a vessel stow plan in advance.

Container Status Messages (CSMs): For all containers destined to arrive within the limits of a U.S. port from a foreign port by vessel, the incoming carrier must submit messages regarding the status of events if the carrier creates or collects a container status message (CSM) in its equipment tracking system reporting an event. CSMs must be transmitted to CBP via a CBP-approved electronic data interchange system. These messages transmit information regarding events such as the status of a container (full or empty); booking a container destined to arrive in the United States; loading or unloading a container from a vessel; and a container arriving or departing the United States. CSMs are provided for by 19 CFR 4.7d.

Importer Security Filing (ISF): For most cargo arriving in the United States by vessel, the importer, or its authorized agent, must submit the data elements listed in 19 CFR 149.3 via a CBP-approved electronic interchange system within prescribed time frames. Transmission of these data elements provide CBP with advance information about the shipment.

Current Actions: CBP is proposing that this information collection be extended with no change to the burden hours resulting from the proposed revision to the information collection associated with the Air Cargo Advance Screening pilot, as there is no change to the data being collected, only to the timing of the collection. There are no changes to the existing information collections under this OMB approval. The burden hours are listed in the chart below.

Type of Review: Revision and Extension

Affected Public: Businesses.

Collection | Total burden hours | Number of respondents | Number of responses per respondent | Total responses | Time per response
Air Cargo Manifest (CBP Form 7509) Air Cargo Advance Screening Pilot (ACAS) | 366,600 | 215 | 6820.46 | 1,466,400 | 15 minutes.
Inward Cargo Manifest for Truck, Rail, Vehicles, Vessels, etc. (CBP Form 7533) | 962,940 | 33,000 | 291.8 | 9,629,400 | 6 minutes.
Inward Cargo Declaration (CBP Form 1302) | 1,500,000 | 10,000 | 300 | 3,000,000 | 30 minutes.
Cargo Declaration Outward With Commercial Forms (CBP Form 1302A) | 10,000 | 500 | 400 | 200,000 | 3 minutes.
Importer Security Filing | 17,739,000 | 240,000 | 33.75 | 8,100,000 | 2.19 hours.
Vessel Stow Plan (Import) | 31,803 | 163 | 109 | 17,767 | 1.79 hours.
Vessel Stow Plan (Export) | 31,803 | 163 | 109 | 17,767 | 1.79 hours.
Container Status Messages | 23,996 | 60 | 4,285,000 | 257,100,000 | 0.0056 minutes.
Request for Manifest Confidentiality | 1,260 | 5,040 | 1 | 5,040 | 15 minutes.
Electronic Air Export Manifest | 121,711 | 260 | 5,640 | 1,466,400 | 5 minutes.
Electronic Ocean Export Manifest | 5,000 | 500 | 400 | 200,000 | 1.5 minutes.
Electronic Rail Export Manifest | 2,490 | 50 | 300 | 15,000 | 10 minutes.
Total | 20,796,603 | 289,996 |  | 281,217,774 |

Dated: July 28, 2017.
Seth Renkema,
Branch Chief, Economic Impact Analysis Branch, U.S. Customs and Border Protection.

[FR Doc. 2017-16231 Filed 8-1-17; 8:45 am]

BILLING CODE 9111-14-P